DEPARTMENT OF ENERGY

Federal Energy Regulatory Commission

[Docket No. RM00-12-000]

Electronic Filing of Documents; Notice of Additional Qualified Documents for Electronic Filing

November 9, 2001.

Take notice that beginning November 13, 2001, the Commission will accept additional types of documents for filing via the Internet in lieu of paper copies.

Order No. 619,¹ authorized the Secretary of the Commission to issue and amend a list of qualified documents that, at the filer's option, may be submitted via the Internet without also filing paper copies.² The Commission defined the initial set of qualified documents and issued electronic filing instructions in a notice issued October 6, 2000.³ That notice identified the initial set of qualified documents, including:

¹ III FERC Stats. & Regs., Regulations Preambles ¶ 31,107.

² 18 CFR 385.2003(c)(2), 65 FR 57088.

³ “Notice of Qualified Documents for Electronic Filing”, Docket No. RM00-12-000, issued October 6, 2000.

1. Comments on applications and other filings

2. Comments on technical conferences

3. Comments filed in connection with environmental documents (Notices, Environmental Assessments, and Environmental Impact Statements) ⁴

⁴ 18 CFR 380.10(a).

4. Protests ⁵ and responses to certain protests.⁶

⁵ 18 CFR 385.211 and 18 CFR 343.3 (see also 18 CFR 4.5, 4.13, 4.23, 35.8(a), 154,210(a), 157.10, and 157.205(e)).

⁶ 18 CFR 343.3(b).

5. Reply comments.

By notice issued March 8, 2001,⁷ the Secretary expanded the initial list of qualified documents to include the following:

⁷ 94 FERC ¶61,239.

1. Comments in response to Notices of Proposed Rulemakings ⁸

⁸ 18 CFR 385.1903 and 18 CFR 380.10(b).

2. Motion/Notice of Intervention ⁹

⁹ 18 CFR 385.214, 385.1306 (See also 18 CFR 35.8(a), 154.210(a) and (b), 157.210, 157.106, 343.2(a), and 380.10).

3. Motion/Notice of Intervention Out-of-Time ¹⁰

¹⁰ 18 CFR 385.214(b)(3).

4. Withdrawal of Intervention ¹¹

¹¹ 18 CFR 385.216.

5. Reply Comments and Responses to Motions to Intervene

The Secretary also confirmed that responses to Notices of Inquiry were qualified documents for filing via the Internet.

Beginning November 13, 2001, the following additional filings may, at the filer's option, be submitted via the Internet in lieu of paper copies:

1. Settlement Comments ¹²

¹² 18 CFR 385.602(f).

2. Request for Rehearing or Appeal ¹³

¹³ 18 CFR 385.713 and 18 CFR 385.715.

3. Motions ¹⁴

¹⁴ 18 CFR 385.212

4. Answer/Response to a Pleading or Motion ¹⁵

¹⁵ 18 CFR 385.213.

5. Motion to Compel Production ¹⁶

¹⁶ 18 CFR 385.410(b).

6. Objection to Motion to Compel Production

7. Production of Documents ¹⁷

¹⁷ 18 CFR 385.406.

8. Request for Hearing

9. Response to a Complaint ¹⁸

¹⁸ 18 CFR 385.206(f).

The public should take note that there are statutory deadlines for filing requests for rehearing. Be advised that the Commission cannot waive these deadlines.

The public should also take note that “comments” on filings include mandatory and recommended terms and conditions or prescriptions on a hydropower application for exemption or license.

The Commission is not yet accepting complaints via the Internet. This document must be filed in the traditional manner with the required number of paper copies.

Qualified documents may be combined and submitted in the same document (electronic file). For example, a motion to intervene may also include comments and/or a protest in the same document and be eligible for filing via the Internet.

Non-qualified documents may not be included in an electronic submission with other qualified documents. For example a complaint (not a qualified document) combined with a Motion to Intervene is not eligible for electronic submission via the Internet.

We are revising the User Guide to reflect the additions to the qualified documents list. The guide contain the instructions for electronic submission and provides more detail on the types of documents eligible for electronic filing. The User Guide is accessible via the E-Filing link at www.ferc.gov.

Linwood A. Watson, Jr.,
Acting Secretary.

[FR Doc. 01-28789 Filed 11-16-01; 8:45 am]

BILLING CODE 6717-01-P